DEFENSE BASE CLOSURE AND REALIGNMENT COMMISSION

Notice of the 2005 Defense Base Closure and Realignment Commission—Open Meeting

AGENCY: Defense Base Closure and Realignment Commission.

ACTION: Notice; 2005 Defense Base Closure and Realignment Commission—Open Meeting (St. Louis, MO).

SUMMARY: Notice is hereby given that a sub-group of the 2005 Defense Base Closure and Realignment Commission will hold an open meeting at the St. Louis Airport Marriott, 10700 Pear Tree Lane, St. Louis, Missouri 63134 on June 7, 2005 from 8:30 a.m. to 6 p.m.

A sub-group of the Commission will meet to receive comment from Federal, state and local government representatives and the general public on base realignment and closure actions in Kentucky, Illinois, Indiana, Iowa, Missouri and Tennessee that have been recommended by the Department of Defense (DoD). The purpose of this regional meeting is to allow communities experiencing a base closure or major realignment action (defined as loss of 300 civilian positions or 400 military and civilian positions) an opportunity to voice their concerns, counter-arguments, and opinions. This meeting will be open to the public, subject to the availability of space. The sub-group of the Commission will not render decisions regarding the DoD recommendations at this meeting, but will gather information for later deliberations by the Commission as a whole.

DATES: June 7, 2005, from 8:30 a.m. to 6 p.m.

ADDRESSES: St. Louis Airport Marriott, 10700 Pear Tree Lane, St. Louis, Missouri 63134.

FOR FURTHER INFORMATION CONTACT: Please see the 2005 Defense Base Closure and Realignment Commission Web site, http://www.brac.gov. The Commission invites the public to provide direct comment by sending an electronic message through the portal provided on the Commission's website or by mailing comments and supporting documents to the 2005 Defense Base Closure and Realignment Commission, 2521 South Clark Street Suite 600, Arlington, Virginia 22202-3920. For questions regarding this announcement, contact Mr. Dan Cowhig, Deputy General Counsel and Designated Federal Officer, at the Commission's mailing address or by telephone at 703-699-2950 or 2708.

Dated: May 24, 2005.
Jeannette Owings-Ballard,
Administrative Support Officer.

[FR Doc. 05-10832 Filed 5-31-05; 8:45 am]

BILLING CODE 5001-06-P